DEPARTMENT OF ENERGY

Federal Energy Regulatory Commission

Combined Notice of Filings #1

Take notice that the commission received the following accounting Request filings:

Docket Numbers: AC26-10-000.

Applicants: American Electric Power Service Corporation.

Description: The Public Service Company of Oklahoma submits request for approval of proposed journal entries re acquisition of Pixley Solar Energy LLC, Flat Ridge 4 Wind, LLC, and Flat Ridge 5 Wind Energy LLC.

Filed Date: 11/21/25.

Accession Number: 20251121-5590.

Comment Date: 5 p.m. ET 12/12/25.

Take notice that the Commission received the following exempt wholesale generator filings:

Docket Numbers: EG26-72-000.

Applicants: Westlands Grape, LLC.

Description: Westlands Grape, LLC submits Notice of Self-Certification of Exempt Wholesale Generator Status.

Filed Date: 11/24/25.

Accession Number: 20251124-5169.

Comment Date: 5 p.m. ET 12/15/25.

Docket Numbers: EG26-73-000.

Applicants: Westlands VI Project, LLC.

Description: Westlands VI Project, LLC submits Notice of Self-Certification of Exempt Wholesale Generator Status.

Filed Date: 11/24/25.

Accession Number: 20251124-5171.

Comment Date: 5 p.m. ET 12/15/25.

Take notice that the Commission received the following electric rate filings:

Docket Numbers: ER18-1156-005.

Applicants: St. Joseph Energy Center, LLC.

Description: Refund Report: Refund Report to be effective N/A.

Filed Date: 11/21/25.

Accession Number: 20251121-5512.

Comment Date: 5 p.m. ET 12/12/25.

Docket Numbers: ER21-1635-013.

Applicants: PJM Interconnection, L.L.C.

Description: Compliance filing: Compliance Filing of Tariff Records to Implement Settlement in ER21-1635-009 to be effective 1/1/2024.

Filed Date: 11/24/25.

Accession Number: 20251124-5354.

Comment Date: 5 p.m. ET 12/15/25.

Docket Numbers: ER22-2305-000.

Applicants: Louisville Gas and Electric Company.

Description: Report Filing: Order 881 Motion for Additional Deferral to be effective N/A.

Filed Date: 11/21/25.

Accession Number: 20251121-5370.

Comment Date: 5 p.m. ET 12/8/25.

Docket Numbers: ER25-3070-002.

Applicants: Midcontinent Independent System Operator, Inc., Indianapolis Power & Light Company.

Description: Tariff Amendment: Indianapolis Power & Light Company submits tariff filing per 35.17(b): 2025-11-21_2nd Amendment IPL dba AES Transition to Forward Looking Formula Rate to be effective 1/1/2026.

Filed Date: 11/21/25.

Accession Number: 20251121-5434.

Comment Date: 5 p.m. ET 12/12/25.

Docket Numbers: ER25-3162-002.

Applicants: Southwest Power Pool, Inc.

Description: Tariff Amendment: 1768R2 American Electric Power NITSA and NOAs—Amended to be effective 6/1/2025.

Filed Date: 11/24/25.

Accession Number: 20251124-5198.

Comment Date: 5 p.m. ET 12/15/25.

Docket Numbers: ER25-3334-001.

Applicants: City of Anaheim, California.

Description: Tariff Amendment: City of Anaheim, Cal. Response to Deficiency Letter to be effective 9/1/2025.

Filed Date: 11/24/25.

Accession Number: 20251124-5343.

Comment Date: 5 p.m. ET 12/15/25.

Docket Numbers: ER25-3349-001.

Applicants: City of Riverside, California.

Description: Tariff Amendment: City of Riverside, Cal. Response to Deficiency Letter to be effective 9/1/2025.

Filed Date: 11/24/25.

Accession Number: 20251124-5356.

Comment Date: 5 p.m. ET 12/15/25.

Docket Numbers: ER26-403-001.

Applicants: PJM Interconnection, L.L.C.

Description: Tariff Amendment: Proposed Tariff Amendments—Request to Change Requested Effective Date to be effective 1/30/2026.

Filed Date: 11/24/25.

Accession Number: 20251124-5250.

Comment Date: 5 p.m. ET 12/15/25.

Docket Numbers: ER26-584-000.

Applicants: Midcontinent Independent System Operator, Inc.

Description: 205(d) Rate Filing: 2025-11-24_SA 1039 1040 1041 1042 MPPA 3rd Rev TSAs to be effective 1/24/2026.

Filed Date: 11/24/25.

Accession Number: 20251124-5200.

Comment Date: 5 p.m. ET 12/15/25.

Docket Numbers: ER26-585-000.

Applicants: Idaho Power Company.

Description: 205(d) Rate Filing: Modification to Attachment O, Section 8 to be effective 1/26/2026.

Filed Date: 11/24/25.

Accession Number: 20251124-5204.

Comment Date: 5 p.m. ET 12/15/25.

Docket Numbers: ER26-586-000.

Applicants: Southwest Power Pool, Inc.

Description: 205(d) Rate Filing: 3490R2 AEP Energy Partners, Inc. NITSA and NOA to be effective 11/1/2025.

Filed Date: 11/24/25.

Accession Number: 20251124-5208.

Comment Date: 5 p.m. ET 12/15/25.

Docket Numbers: ER26-587-000.

Applicants: Midcontinent Independent System Operator, Inc.

Description: 205(d) Rate Filing: 2025-11-24_SA 3454 Entergy Arkansas-Flat Fork Solar 4th Rev GIA (J907 J1434) to be effective 11/19/2025.

Filed Date: 11/24/25.

Accession Number: 20251124-5223.

Comment Date: 5 p.m. ET 12/15/25.

Docket Numbers: ER26-588-000.

Applicants: PJM Interconnection, L.L.C.

Description: 205(d) Rate Filing: Amendment to NSA, SA No. 6264; Queue Nos. V1-026/V1-027 to be effective 1/24/2026.

Filed Date: 11/24/25.

Accession Number: 20251124-5229.

Comment Date: 5 p.m. ET 12/15/25.

Docket Numbers: ER26-589-000.

Applicants: Niagara Mohawk Power Corporation, New York Independent System Operator, Inc.

Description: 205(d) Rate Filing: New York Independent System Operator, Inc. submits tariff filing per 35.13(a)(2)(iii: NMPC 205: Revisions to FRT and associated protocols.

Filed Date: 11/24/25.

Accession Number: 20251124-5277.

Comment Date: 5 p.m. ET 12/15/25.

Docket Numbers: ER26-590-000.

Applicants: Midcontinent Independent System Operator, Inc.

Description: 205(d) Rate Filing: 2025-11-24_SA 4596 Entergy Louisiana-Entergy Louisiana GIA (E0014) to be effective 11/19/2025.

Filed Date: 11/24/25.

Accession Number: 20251124-5333.

Comment Date: 5 p.m. ET 12/15/25.

Docket Numbers: ER26-591-000.

Applicants: PJM Interconnection, L.L.C.

Description: Tariff Amendment: Notice of Cancellation of ISA, SA No. 7033; AF2-166 re: Withdrawn to be effective 1/24/2025.

Filed Date: 11/24/25.

Accession Number: 20251124-5361.

Comment Date: 5 p.m. ET 12/15/25.

Docket Numbers: ER26-592-000.

Applicants: Alabama Power Company, Georgia Power Company, Mississippi Power Company.

Description: Initial rate filing: Alabama Power Company submits tariff filing per 35.12: PowerSouth Affected System Upgrade Agreement Filing to be effective 11/17/2025.

Filed Date: 11/24/25.

Accession Number: 20251124-5369.

Comment Date: 5 p.m. ET 12/15/25.

Docket Numbers: ER26-593-000.

Applicants: Georgia Power Company.

Description: Initial rate filing: PowerSouth (Lowman #3) Affected System Upgrade Agreement Concurrence Filing to be effective 11/17/2025.

Filed Date: 11/24/25.

Accession Number: 20251124-5371.

Comment Date: 5 p.m. ET 12/15/25.

Docket Numbers: ER26-594-000.

Applicants: Mississippi Power Company.

Description: Initial rate filing: PowerSouth (Lowman #3) Affected System Upgrade Agreement Concurrence Filing to be effective 11/17/2025.

Filed Date: 11/24/25.

Accession Number: 20251124-5373.

Comment Date: 5 p.m. ET 12/15/25.

Docket Numbers: ER26-595-000.

Applicants: PJM Interconnection, L.L.C.

Description: Tariff Amendment: Notice of Cancellation of SA No. 6705; AE1-056 re: Withdrawn to be effective 1/24/2025.

Filed Date: 11/24/25.

Accession Number: 20251124-5386.

Comment Date: 5 p.m. ET 12/15/25.

Docket Numbers: ER26-596-000.

Applicants: PJM Interconnection, L.L.C.

Description: 205(d) Rate Filing: Original NSA, Service Agreement No. 7774; AF1-119/AF2-162 to be effective 10/28/2025.

Filed Date: 11/24/25.

Accession Number: 20251124-5410.

Comment Date: 5 p.m. ET 12/15/25.

Take notice that the Commission received the following qualifying facility filings:

Docket Numbers: QF26-212-000.

Applicants: MDC002.B2 PROJECTCO, LLC.

Description: Form 556 of MDC002.B2 PROJECTCO, LLC.

Filed Date: 11/21/25.

Accession Number: 20251121-5586.

Comment Date: 5 p.m. ET 12/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 24, 2025.
Carlos D. Clay,
Deputy Secretary.

[FR Doc. 2025-21414 Filed 11-26-25; 8:45 am]

BILLING CODE 6717-01-P